DEPARTMENT OF AGRICULTURE

Animal and Plant Health Inspection Service

[Docket No. APHIS-2010-0086]

Notice of Availability of a Swine Brucellosis and Pseudorabies Proposed Action Plan

AGENCY: Animal and Plant Health Inspection Service, USDA.

ACTION: Notice of availability and request for comments; reopening of the comment period.

SUMMARY: We are reopening the comment period for a notice that made a proposed action plan describing a potential new approach to managing swine brucellosis and pseudorabies available for public review and comment. This action will allow interested persons additional time to prepare and submit comments.

DATES: We will consider all comments that we receive on or before July 22, 2013.

ADDRESSES: You may submit comments by either of the following methods:

• Federal eRulemaking Portal: Go to http://www.regulations.gov/#!documentDetail;D=APHIS-2010-0086-0001.

• Postal Mail/Commercial Delivery: Send your comment to Docket No. APHIS-2010-0086, Regulatory Analysis and Development, PPD, APHIS, Station 3A-03.8, 4700 River Road Unit 118, Riverdale, MD 20737-1238.

Supporting documents and any comments we receive on this docket may be viewed at http://www.regulations.gov/#!docketDetail;D=APHIS-2010-0086 or in our reading room, which is located in Room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Dr. Troy Bigelow, National Center for Animal Health Programs, VS, APHIS, Federal Building Room 891, 210 Walnut Street, Des Moines, IA 50309; (515) 284-4121.

SUPPLEMENTARY INFORMATION: On February 7, 2013, we published in the Federal Register (78 FR 9028-9029, Docket No. APHIS-2010-0086) a notice that made a proposed action plan describing a potential new approach to managing swine brucellosis and pseudorabies available for public review and comment.

Comments on the notice were required to be received on or before April 8, 2013. We are reopening the comment period on Docket No. APHIS-2010-0086 for an additional 90 days ending July 22, 2013 This action will allow interested persons additional time to prepare and submit comments. We will also consider all comments received between April 9, 2013 (the day after the close of the original comment period) and the date of this notice.

Done in Washington, DC, this 17th day of April 2013.
Kevin Shea,
Acting Administrator, Animal and Plant Health Inspection Service.

[FR Doc. 2013-09394 Filed 4-19-13; 8:45 am]

BILLING CODE 3410-34-P